DEPARTMENT OF TRANSPORTATION

Coast Guard

33 CFR Parts 148, 149, and 150

[USCG-1998-3884]

RIN 2115-AF63

Deepwater Ports; Reopening of Comment Period

AGENCY: Coast Guard, DOT.

ACTION: Notice of proposed rulemaking; reopening of comment period.

SUMMARY: In response to public requests, the Coast Guard is reopening the comment period on its notice of proposed rulemaking on deepwater ports published in the Federal Register on May 30, 2002, (67 FR 37920). Reopening the comment period gives the public more time to submit comments and recommendations on the issues raised in the proposed rule. This rulemaking is necessary to update the regulations with current technology and industry standards. It will also align them with certain regulations for other fixed offshore facilities.

DATES: Comments on the proposed rule and related material must reach the Docket Management Facility on or before September 18, 2002. Comments sent to the Office of Management and Budget (OMB) on collection of information must reach OMB on or before September 18, 2002.

ADDRESSES: To make sure that your comments and related material are not entered more than once in the docket, please submit them by only one of the following means:

(1) By mail to the Docket Management Facility (USCG-1998-3884), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

You must also mail comments on collection of information to the Office of Information and Regulatory Affairs, Office of Management and Budget, 725 17th Street NW., Washington, DC 20503, ATTN: Desk Officer, U.S. Coast Guard.

The Docket Management Facility maintains the public docket for the rulemaking. Comments and material received from the public, as well as documents mentioned in the preamble to the proposed rule as being available in the docket, will become part of this docket and will be available for inspection or copying at room PL-401, located on the Plaza level of the Nassif Building, 400 Seventh Street SW., Washington, DC, between 9 a.m. and 5 p.m., Monday through Friday, except Federal holidays. You may also find this docket on the Internet at http://dms.dot.gov.

FOR FURTHER INFORMATION CONTACT: If you have questions on this proposed rule, call Commander Mark Prescott, Vessel and Facility Operating Standards Division (G-MSO-2), Coast Guard, telephone 202-267-0225. If you have questions on viewing or submitting material to the docket, call Dorothy Beard, Chief, Dockets, Department of Transportation, telephone 202-366-5149.

SUPPLEMENTARY INFORMATION:

Request for Comments

We encourage you to participate in the rulemaking by submitting comments and related material. If you do so, please include your name and address, identify the docket number for the rulemaking (USCG-1998-3884), indicate the specific section of the proposed rule to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope.

We will consider all comments received during the comment period. We may change the proposed rule in view of them.

Dated: August 12, 2002.
Joseph J. Angelo,
Director of Standards, Marine Safety, Security and Environmental Protection.

[FR Doc. 02-20952 Filed 8-16-02; 8:45 am]

BILLING CODE 4910-15-P